ENVIRONMENTAL PROTECTION AGENCY

[EPA-HQ-OPP-2010-0751; FRL-9922-14]

Methomyl; Cancellation Order for Amendments to Terminate Uses

AGENCY: Environmental Protection Agency (EPA).

ACTION: Notice.

SUMMARY: This notice announces EPA's order for the amendments to terminate uses, voluntarily requested by the registrants and accepted by the Agency, of products containing methomyl, pursuant to the Federal Insecticide, Fungicide, and Rodenticide Act (FIFRA). This cancellation order follows a November 5, 2014, Federal Register Notice of Receipt of Requests from the registrants listed in Table 2 of Unit II. to voluntarily amend certain methomyl product registrations to terminate uses of barley, oats, and rye from these product registrations. These are not the last products containing this pesticide registered for use in the United States. In the November 5, 2014, notice, EPA indicated that it would issue an order implementing the amendments to terminate uses unless the Agency received substantive comments within the 30-day comment period that would merit its further review of these requests, or unless the registrants withdrew their requests. The Agency did not receive any comments on the notice. Further, the registrants did not withdraw their requests. Accordingly, EPA hereby issues in this notice a cancellation order granting the requested amendments to terminate uses. Any distribution, sale, or use of the products subject to this cancellation order is permitted only in accordance with the terms of this order, including any existing stocks provisions.

DATES: The amendments are effective March 18, 2015.

FOR FURTHER INFORMATION CONTACT: Tom Myers, Pesticide Re-Evaluation Division (7508P), Office of Pesticide Programs, Environmental Protection Agency, 1200 Pennsylvania Ave. NW., Washington, DC 20460-0001; telephone number: (703) 308-8589; email address: myers.tom@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2010-0751, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the agency taking?

This notice announces the amendments to delete uses, as requested by registrants, of products registered under FIFRA section 3 (7 U.S.C. 136a). These registrations are listed in sequence by registration number in Table 1 of this unit.

Table 1—Methomyl Product Registration Amendments To Delete Uses
EPA registration No. | Product name | Uses deleted
352-342 | Dupont Lannate SP Insecticide | Barley, Oats, Rye.
352-361 | Dupont Methomyl Composition | Barley, Oats, Rye.
352-366 | Dupont Methomyl Technical | Barley, Oats, Rye.
352-384 | Dupont Lannate LV Insecticide | Barley, Oats, Rye.
400-597 | Annihilate LV | Barley, Oats, Rye.
400-598 | Annihilate SP | Barley, Oats, Rye.
70552-2 | Methomyl Technical | Barley, Oats, Rye.
81598-9 | Rotam Methomyl Technical | Barley, Oats, Rye.
82557-2 | Methomyl 29% SL Insecticide | Barley, Oats, Rye.
82557-3 | Methomyl 90% SP | Barley, Oats, Rye.
83100-27 | Rotam Methomyl 29LV Insecticide | Barley, Oats, Rye.
83100-28 | Rotam Methomyl 90SP Insecticide | Barley, Oats, Rye.

Table 2 of this unit includes the names and addresses of record for all registrants of the products in Table 1 of this unit, in sequence by EPA company number. This number corresponds to the first part of the EPA registration numbers of the products listed in Table 1 of this unit.

Table 2—Registrants of Amended Products
EPA company No. | Company name and address
352 | E. I. Du Pont de Nemours and Company, 1007 Market Street, Wilmington, DE 19898-0001.
400 | Macdermid Agricultural Solutions, Inc., c/o Chemtura Corporation, 199 Benson Road, Middlebury, CT 06749,
70552 | Sinon Corporation, c/o Biologic, Inc., 115 Obtuse Hill Road, Brookfield, CT 06804.
81598 | Rotam Limited, c/o Wagner Regulatory Associates, Inc., P.O. Box 640, 7217 Lancaster Pike, Suite A, Hockessin, DE 19707.
82557 | Sinon USA, Inc., c/o Biologic, Inc., 115 Obtuse Hill Road, Brookfield, CT 06804.
83100 | Rotam Agrochemical Company, Ltd., c/o Wagner Regulatory Associates, Inc., P.O. Box 640, 7217 Lancaster Pike, Suite A, Hockessin, DE 19707.

III. Summary of Public Comments Received and Agency Response to Comments

During the public comment period provided, EPA received no comments in response to the November 5, 2014, Federal Register notice (79 FR 65656) (FRL-9918-46) announcing the Agency's receipt of the requests for voluntary amendments to delete uses of products listed in Table 1 of Unit II.

IV. Cancellation Order

Pursuant to FIFRA section 6(f) (7 U.S.C. 136d(f)(1)), EPA hereby approves the requested amendments to terminate uses of methomyl registrations identified in Table 1 of Unit II. Accordingly, the Agency hereby orders that the product registrations identified in Table 1 of Unit II. are amended to terminate the affected uses. The effective date of the cancellations that are subject of this notice is March 18, 2015. Any distribution, sale, or use of existing stocks of the products identified in Table 1 of Unit II. in a manner inconsistent with any of the provisions for disposition of existing stocks set forth in Unit VI. will be a violation of FIFRA.

V. What is the agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of November 5, 2014. The comment period closed on December 5, 2014.

VI. Provisions for Disposition of Existing Stocks

Existing stocks are those stocks of registered pesticide products which are currently in the United States and which were packaged, labeled, and released for shipment prior to the effective date of the action. The existing stocks provisions for the products subject to this order is as follows.

Now that EPA has approved product labels reflecting the requested amendments to delete uses, registrants are permitted to sell or distribute products listed in Table 1 of Unit II. under the previously approved labeling for a period of 18 months after publication of the cancellation order in this Federal Register, unless other restrictions have been imposed. Thereafter, registrants will be prohibited from selling or distributing the products whose labels include the deleted uses identified in Table 1 of Unit II., except for export consistent with FIFRA section 17 or for proper disposal.

Persons other than the registrant may sell, distribute, or use existing stocks of products whose labels include the deleted uses until supplies are exhausted, provided that such sale, distribution, or use is consistent with the terms of the previously approved labeling on, or that accompanied, the deleted uses.

Authority: 7 U.S.C. 136 et seq.

Dated: January 26, 2015.
Richard P. Keigwin, Jr.,
Director, Pesticide Re-Evaluation Division, Office of Pesticide Programs.

[FR Doc. 2015-02706 Filed 2-10-15; 8:45 am]

BILLING CODE 6560-50-P